DEPARTMENT OF TRANSPORTATION

Federal Aviation Administration

14 CFR Part 39

[Docket No. FAA-2004-19201; Directorate Identifier 2003-NM-100-AD; Amendment 39-13959; AD 2005-03-03]

RIN 2120-AA64

Airworthiness Directives; Boeing Model 767-200, -300, and -300F Series Airplanes

AGENCY: Federal Aviation Administration (FAA), Department of Transportation (DOT).

ACTION: Final rule.

SUMMARY: The FAA is superseding an existing airworthiness directive (AD), which applies to all Boeing Model 767-200, -300, and -300F series airplanes. That AD currently requires examination of maintenance records to determine if Titanine JC5A (also known as Desoto 823E508) corrosion inhibiting compound (“C.I.C.”) was ever used; inspection for cracks or corrosion and corrective action, if applicable; repetitive inspections and C.I.C. applications; and modification of the aft trunnion area of the outer cylinder, which terminates the need for the repetitive inspections and C.I.C. applications. This new AD also requires, for certain other airplanes, repetitive inspections for cracks or corrosion, corrective action if necessary, and repetitive C.I.C. applications. This AD is prompted by a report that JC5A was used on more airplanes during production than previously identified. We are issuing this AD to prevent severe corrosion in the main landing gear (MLG) outer cylinder at the aft trunnion, which could develop into stress corrosion cracking and consequent collapse of the MLG.

DATES: This AD becomes effective March 11, 2005.

The incorporation by reference of a certain publication listed in the AD is approved by the Director of the Federal Register as of March 11, 2005.

On May 6, 2002 (67 FR 19322, April 19, 2002), the Director of the Federal Register approved the incorporation by reference of a certain other publication.

ADDRESSES: For service information identified in this AD, contact Boeing Commercial Airplanes, P.O. Box 3707, Seattle, Washington 98124-2207. You can examine this information at the National Archives and Records Administration (NARA). For information on the availability of this material at NARA, call (202) 741-6030, or go to: http://www.archives.gov/federal_register/code_of_federal_regulations/ibr_locations.html.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., room PL-401, Washington, DC. This docket number is FAA-2004-19201; the directorate identifier for this docket is 2003-NM-100-AD.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: The FAA proposed to amend part 39 of the Federal Aviation Regulations (14 CFR part 39) with an AD to supersede AD 2002-08-07, amendment 39-12715, (67 FR 19322, April 19, 2002). The existing AD applies to all Boeing Model 767-200, -300, and -00F series airplanes. The proposed AD was published in the Federal Register on September 29, 2004 (69 FR 58103). That action proposed to continue to require examination of maintenance records to determine if Titanine JC5A (also known as Desoto 823E508) corrosion inhibiting compound (“C.I.C.”) was ever used; inspection for cracks or corrosion and corrective action, if applicable; repetitive inspections and C.I.C. applications; and modification of the aft trunnion area of the outer cylinder, which terminates the need for the repetitive inspections and C.I.C. applications. The action also proposed to require, for certain other airplanes, repetitive inspections for cracks or corrosion, corrective action if necessary, and repetitive C.I.C. applications.

Comments

We provided the public the opportunity to participate in the development of this AD. We have considered the comments that have been submitted on the proposed AD.

Support for the Proposed AD

One commenter supports the proposed AD.

Request To Add Compliance Statement

One commenter requests that we add the verbiage, “required as indicated, unless accomplished previously,” to the compliance section of the proposed AD. The commenter believes this statement is needed to obtain credit for the inspections and repetitive C.I.C applications it accomplished, prior to issuance of the proposed AD, on its airplanes in accordance with Boeing Alert Service Bulletin 767-32A0192, Revision 1, dated March 13, 2003.

We partially agree, since similar language to that suggested by the commenter is found in paragraph (e) of this AD. As part of our effort to use plain language in ADs, we have rewritten the compliance statement as follows: “You are responsible for having the actions required by this AD performed within the compliance times specified, unless the actions have already been done.” While the language has changed, the intent of the statement is the same. Therefore, no further change to this AD is necessary in this regard.

Request To Add Credit for Previous Accomplishment

One commenter requests that we add a note to the proposed AD, which would give credit for work accomplished in compliance with AD 2002-08-07. The commenter suggests the following note, or language similar to this: “Accomplishment of the actions required by paragraph[s] (a) through (l) of AD 2002-08-07 amendment 39-12715, is acceptable for compliance with the requirements of paragraph[s] (g) through (r) of this AD. This AD does not require that those actions be repeated.” We infer that the commenter believes the proposed AD, as written, would require repeating work the commenter has already accomplished.

We do not agree that a credit note is necessary because paragraph (e) of this AD, as discussed in the first comment, already gives credit for any work previously accomplished. Operators should note that the new requirements of paragraph (s) of this AD are applicable only to Boeing Model 767-200, -300, and -300F series airplanes, with line numbers (L/Ns) 834 through 874 inclusive. Furthermore, if an operator previously accomplished these new required actions on any applicable airplane (L/Ns 834 through 874 inclusive), then that airplane is also in compliance, as stated in paragraph (e) of this AD. Therefore no change to this AD is necessary in this regard.

Explanation of Change to This AD

Boeing has received a Delegation Option Authorization (DOA). We have revised this final rule to delegate the authority to approve an alternative method of compliance for any repair required by this AD to the Authorized Representative for the Boeing DOA Organization rather than the Designated Engineering Representative (DER).

Conclusion

We have carefully reviewed the available data, including the comments that have been submitted, and determined that air safety and the public interest require adopting the AD with the change described previously. We have determined that these changes will neither increase the economic burden on any operator nor increase the scope of the AD.

Costs of Compliance

There are about 848 airplanes of the affected design in the worldwide fleet. This AD will affect about 357 airplanes of U.S. registry. The new requirements of this AD add no additional economic burden for operators affected by AD 2002-08-07. The current costs for this AD are repeated for the convenience of affected operators, as follows:

Estimated Costs
Action | Work hours | Average labor rate per hour | Parts | Cost per airplane | Fleet cost
C.I.C. Application | 1 | $65 | None | $65, per application cycle | $23,205 per application cycle.
Cross Bolt Hole Inspection—Bushings Removed | 2 | 65 | None | 130 | 46,410.
Restoration for Bushings Removed | 6 | 65 | None | 390 | 139,230.
Cross Bolt Inner Chamfer Inspection—Bushings Not Removed | 2 | 65 | None | 130, per inspection cycle | 46,410, per inspection cycle.
Restoration for Bushings Not Removed | 6 | 65 | None | 390 | 139,230.
Terminating Action | 64 | 65 | $6,356 | 10,516 | 3,754,212.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-12715 (67 FR 19322, April 19, 2002), and by adding the following new airworthiness directive (AD):

2005-03-03 Boeing: Amendment 39-13959. Docket No. FAA-2004-19201; Directorate Identifier 2003-NM-100-AD.

Effective Date

(a) This AD becomes effective March 11, 2005.

Affected ADs

(b) This AD supersedes AD 2002-08-07, amendment 39-12715 (67 FR 19322, April 19, 2002).

Applicability

(c) This AD applies to all Boeing Model 767-200, -300, and -300F series airplanes, certificated in any category.

Unsafe Condition

(d) This AD was prompted by a report that Titanine JC5A (also known as Desoto 823E508) was used on more airplanes during production than previously identified. We are issuing this AD to prevent severe corrosion in the main landing gear (MLG) outer cylinder at the aft trunnion, which could develop into stress corrosion cracking and consequent collapse of the MLG.

Compliance

(e) You are responsible for having the actions required by this AD performed within the compliance times specified, unless the actions have already been done.

Requirements of AD 2002-08-07, Amendment 39-12715

Line Numbers (L/N) 1 Through 833 Inclusive, and 875 and Subsequent

(f) For airplanes with L/Ns 1 through 833 inclusive, and 875 and subsequent: Do the actions specified in paragraphs (g) through (q) of this AD, as applicable.

Records Examination

(g) Within 90 days after May 6, 2002 (the effective date of AD 2002-08-07, amendment 39-12715), examine airplane records to determine if Titanine JC5A or Desoto 823E508 (hereafter collectively referred to as “JC5A”) corrosion inhibiting compound (“C.I.C.”) was used in the aft trunnion area of the MLG outer cylinder during general maintenance, overhaul, or incorporation of Boeing Alert Service Bulletin 767-32A0148, dated December 21, 1995, Revision 1, dated October 10, 1996 (required by paragraph (e) of AD 96-21-06, amendment 39-9783), or Revision 2, dated November 30, 2000; in accordance with Boeing Alert Service Bulletin 767-32A0192, dated May 31, 2001; or Revision 1, dated March 13, 2003. If records do not show conclusively which compound was used, assume JC5A was used. Refer to Boeing Alert Service Bulletin 767-32A0192, dated May 31, 2001, for the line numbers of airplanes that were assembled new using JC5A.

Note 1: Prior to January 31, 2001, if BMS 3-27 was ordered from Boeing, Boeing shipped JC5A as a substitute.

MLGs on Which JC5A Was Not Used

(h) Except as provided by paragraph (p) (“Use of JC5A Prohibited”) of this AD, if, according to the criteria of paragraph (g) of this AD, JC5A was never used, no further action is required by this AD.

C.I.C. Applications, Inspections, and Corrective Actions if Necessary

(i) For Category 1 MLG outer cylinders as identified in Boeing Alert Service Bulletin 767-32A0192, dated May 31, 2001: If, according to the criteria of paragraph (g) of this AD, JC5A may have been used, perform the actions specified in both paragraphs (j) and (k) of this AD, as applicable, in accordance with Boeing Alert Service Bulletin 767-32A0192, dated May 31, 2001; or Revision 1, dated March 13, 2003.

(j) For MLGs and MLG outer cylinders identified in paragraphs (j)(1), (j)(2), and (j)(3) of this AD: Within 90 days after May 6, 2002, perform the C.I.C. application on the MLG in accordance with “Part 3—C.I.C. Application” of the Accomplishment Instructions of Boeing Alert Service Bulletin 767-32A0192, dated May 31, 2001; or Revision 1, dated March 13, 2003. Thereafter, repeat at intervals not to exceed 180 days until the terminating action required by paragraph (q) of this AD has been accomplished.

(1) MLG outer cylinders that are less than 3 years old since new.

(2) MLGs that have been overhauled less than 3 years before May 6, 2002.

(3) MLGs on which rework per Boeing Alert Service Bulletin 767-32A0148, dated December 21, 1995; Revision 1, dated October 10, 1996; or Revision 2, dated November 30, 2000, was accomplished less than 3 years before May 6, 2002.

(k) Before the MLG outer cylinder is 3 years old since new, since last overhaul, or since rework per Boeing Alert Service Bulletin 767-32A0148, dated December 21, 1995; Revision 1, dated October 10, 1996; or Revision 2, dated November 30, 2000; or within 90 days after May 6, 2002; whichever is later; perform a detailed inspection for cracks and corrosion of the cross bolt bushing holes and chamfers in accordance with “Part 1—Cross Bolt Hole Inspection—Bushings Removed” of the Accomplishment Instructions of Boeing Alert Service Bulletin 767-32A0192, dated May 31, 2001; or Revision 1, dated March 13, 2003.

Note 2: For the purposes of this AD, a detailed inspection is defined as: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(1) If no crack or corrosion is found during the detailed inspection required by paragraph (k) of this AD, perform the actions in paragraphs (k)(1)(i), (k)(1)(ii), and (k)(1)(iii) of this AD, at the applicable times indicated.

(i) Before further flight, perform the restoration steps shown in Figure 2 of the service bulletin; and thereafter at intervals not to exceed 180 days, perform the C.I.C. application on the landing gear in accordance with “Part 3—C.I.C. Application” of the Accomplishment Instructions of the service bulletin.

(ii) Within 18 months after performing the detailed inspection required by paragraph (k) of this AD, and thereafter at intervals not to exceed 18 months, perform the detailed inspection for cracks and corrosion of the cross bolt hole inner chamfer, in accordance with “Part 2—Cross Bolt Hole Inner Chamfer Inspection—Bushings Not Removed” of the Accomplishment Instructions of the service bulletin, until the terminating action required by paragraph (q) of this AD has been accomplished.

(iii) Before the MLG cylinder is 6½ years old since new, since last overhaul, or since rework per Boeing Alert Service Bulletin 767-32A0148, dated December 21, 1995; Revision 1, dated October 10, 1996; or Revision 2, dated November 30, 2000; whichever is later; perform the terminating action described in paragraph (q) of this AD.

(2) If any corrosion is found on the cross bolt holes or outer chamfers during the detailed inspection required by paragraph (k) of this AD, before further flight, remove the corrosion per Figure 2 of the service bulletin.

(i) If all of the corrosion can be removed: Before further flight, perform the restoration steps shown in Figure 2 of the service bulletin; thereafter at intervals not to exceed 180 days, perform the C.I.C. application on the MLG in accordance with “Part 3—C.I.C. Application” of the Accomplishment Instructions of the service bulletin; and perform the terminating action described in paragraph (q) of this AD, at the applicable time specified in paragraph (k)(2)(i)(A) or (k)(2)(i)(B) of this AD.

(A) If the MLG outer cylinder is less than 5 years old since new, if the MLG was last overhauled less than 5 years before May 6, 2002, or if rework per Boeing Alert Service Bulletin 767-32A0148, dated December 21, 1995; Revision 1, dated October 10, 1996; or Revision 2, dated November 30, 2000; was accomplished less than 5 years before May 6, 2002: Within 18 months after performing the detailed inspection required by paragraph (k) of this AD.

(B) If the MLG outer cylinder is 5 years old or more since new, if the MLG was last overhauled 5 years or more before May 6, 2002, or if rework per Boeing Alert Service Bulletin 767-32A0148, dated December 21, 1995; Revision 1, dated October 10, 1996; or Revision 2, dated November 30, 2000; was accomplished 5 years or more before May 6, 2002: Before the MLG outer cylinder is 6½ years old since new, since last overhaul, or since rework per Boeing Alert Service Bulletin 767-32A0148, dated December 21, 1995; Revision 1, dated October 10, 1996; or Revision 2, dated November 30, 2000; whichever is later.

(ii) If any corrosion cannot be removed, before further flight, perform the terminating action described in paragraph (q) of this AD.

(3) If any crack is found anywhere during the detailed inspection required in paragraph (k) of this AD, or if corrosion in the inner cross bolt hole chamfers is found, before further flight, perform the terminating action described in paragraph (q) of this AD.

(l) For Category 2 MLG outer cylinders as identified in Boeing Alert Service Bulletin 767-32A0192, dated May 31, 2001: If, according to the criteria of paragraph (g) of this AD, JC5A may have been used, perform the actions specified in both paragraphs (m) and (n) of this AD, as applicable, in accordance with Boeing Alert Service Bulletin 767-32A0192, dated May 31, 2001; or Revision 1, dated March 13, 2003.

(m) For MLGs and MLG outer cylinders identified in paragraphs (m)(1) and (m)(2) of this AD: Within 90 days after May 6, 2002, perform the C.I.C. application on the MLG in accordance with “Part 3—C.I.C. Application” of the Accomplishment Instructions of Boeing Alert Service Bulletin 767-32A0192, dated May 31, 2001; or Revision 1, dated March 13, 2003. Thereafter, repeat the application at intervals not to exceed 180 days until the terminating action required by paragraph (q) of this AD has been accomplished.

(1) MLG outer cylinders that are less than 3 years old since new.

(2) MLGs that have been overhauled less than 3 years before May 6, 2002.

(n) Before the MLG outer cylinder is 3 years old since new or since the last overhaul, or within 90 days after May 6, 2002, whichever is later, perform a detailed inspection for cracks and corrosion of the cross bolt hole inner chamfer, in accordance with “Part 2—Cross Bolt Hole Inner Chamfer Inspection—Bushings Not Removed” of the Accomplishment Instructions of Boeing Alert Service Bulletin 767-32A0192, dated May 31, 2001; or Revision 1, dated March 13, 2003.

(1) If no crack or corrosion is found during the inspection required by paragraph (n) of this AD, before further flight, and thereafter at intervals not to exceed 180 days, perform the C.I.C. application on the MLG in accordance with “Part 3—C.I.C. Application” of the Accomplishment Instructions of the service bulletin, until the next MLG overhaul. After the next MLG overhaul has been completed, no further action is required by this AD.

(2) If any corrosion is found during the detailed inspection required by paragraph (n) of this AD, before further flight, remove the cross bolt bushings and perform the detailed inspection specified in paragraph (k) of this AD, and remove the corrosion per Figure 2 of the service bulletin.

(i) If all of the corrosion can be removed, perform the actions specified in paragraph (n)(2)(i)(A) and (n)(2)(i)(B) of this AD, at the applicable times indicated.

(A) Prior to further flight, perform the restoration steps shown in Figure 2 of the service bulletin; and thereafter at intervals not to exceed 180 days, perform the C.I.C. application on the MLG in accordance with “Part 3—C.I.C. Application” of the Accomplishment Instructions of the service bulletin.

(B) Within 18 months after the corrosion removal required by paragraph (n)(2) of this AD, perform the terminating action described in paragraph (q) of this AD.

(ii) If all the corrosion cannot be removed, before further flight, perform the terminating action required by paragraph (q) of this AD.

(3) If any crack is found during the detailed inspection required by paragraph (n) of this AD, before further flight, perform the terminating action described in paragraph (q) of this AD.

Parts Installation

(o) As of May 6, 2002, no person shall install on any airplane an MLG outer cylinder unless maintenance records conclusively show that JC5A has never been used on that MLG outer cylinder, or unless it complies with paragraph (q) of this AD.

Use of JC5A Prohibited

(p) As of May 6, 2002, no person shall use the C.I.C. JC5A in the aft trunnion area of the MLG outer cylinder on any airplane.

Terminating Action

(q) Perform the terminating action (including removal of the existing bushings, repair of the aft trunnion area of the outer cylinder, and machining and installation of new bushings) in accordance with “Part 4—Terminating Action” of the Accomplishment Instructions of Boeing Alert Service Bulletin 767-32A0192, dated May 31, 2001; or Revision 1, dated March 13, 2003. Completion of the terminating action terminates the requirements for the repetitive inspections and C.I.C. applications of this AD.

Credit for Terminating Action

(r) For all airplanes, accomplishment of the actions specified in paragraph (q) of this AD is considered acceptable for compliance with the requirements of paragraph (e) of AD 2002-01-13, amendment 39-12607.

New Requirements of This AD

L/Ns 834 Through 874 Inclusive

(s) For airplanes with L/Ns 834 through 874 inclusive: Do the actions specified in paragraphs (s)(1), (s)(2), and (s)(3) of this AD.

(1) Within 90 days after the effective date of this AD, and thereafter at intervals not to exceed 180 days: Do the actions specified in paragraph (m) of this AD until the terminating action required by paragraph (q) of this AD has been accomplished.

(2) Before the MLG outer cylinder is 3 years old since new or since last overhaul, or within 90 days after the effective date of this AD, whichever is later: Do the actions as specified in paragraph (n) of this AD.

(3) As of the effective date of this AD, the actions specified in paragraphs (o) and (p) of this AD must be complied with.

Reporting Requirement

(t) Although the service bulletins referenced in this AD specify to submit certain information to the manufacturer, this AD does not include such a requirement.

Alternative Methods of Compliance (AMOCs)

(u)(1) The Manager, Seattle Aircraft Certification Office (ACO), FAA, has the authority to approve AMOCs for this AD, if requested in accordance with the procedures found in 14 CFR 39.19.

(2) An AMOC that provides an acceptable level of safety may be used for any repair required by this AD, if it is approved by an Authorized Representative for the Boeing Delegation Option Authorization Organization who has been authorized by the Manager, Seattle ACO, to make those findings. For a repair method to be approved, the repair must meet the certification basis of the airplane, and the approval must specifically refer to this AD.

Material Incorporated by Reference

(v) Unless otherwise specified by this AD, the actions shall be done in accordance with Boeing Alert Service Bulletin 767-32A0192, dated May 31, 2001; or Boeing Alert Service Bulletin 767-32A0192, Revision 1, dated March 13, 2003.

(1) The Director of the Federal Register approves the incorporation by reference of Boeing Alert Service Bulletin 767-32A0192, Revision 1, dated March 13, 2003 in accordance with 5 U.S.C. 552(a) and 1 CFR part 51.

(2) The Director of the Federal Register previously approved the incorporation by reference of Boeing Alert Service Bulletin 767-32A0192, dated May 31, 2001, as of May 6, 2002 (67 FR 19322, April 19, 2002).

(3) For copies of the service information, contact Boeing Commercial Airplanes, P.O. Box 3707, Seattle, Washington 98124-2207. For information on the availability of this material at the National Archives and Records Administration (NARA), call (202) 741-6030, or go to http://www.archives.gov/federal_register/code_of_federal_regulations/ibr_locations.html. You may view the AD docket at the Docket Management Facility, U.S. Department of Transportation, 400 Seventh Street SW., room PL-401, Nassif Building, Washington, DC.

Issued in Renton, Washington, on January 21, 2005.
Ali Bahrami,
Manager, Transport Airplane Directorate, Aircraft Certification Service.

[FR Doc. 05-1805 Filed 2-3-05; 8:45 am]

BILLING CODE 4910-13-P